JUDICIAL CONFERENCE OF THE UNITED STATES

Advisory Committee on Appellate Rules; Hearing of the Judicial Conference

AGENCY: Judicial Conference of the United States.

ACTION: Advisory Committee on Appellate Rules; notice of cancellation of open hearing.

SUMMARY: The following public hearing on proposed amendments to the Federal Rules of Appellate Procedure has been canceled: Appellate Rules Hearing on January 24, 2024.

DATES: January 24, 2024.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The announcement for this hearing was previously published in the Federal Register on August 9, 2023 at 88 FR 53917.

(Authority: 28 U.S.C. 2073.)

Dated: December 27, 2023.
Shelly L. Cox,
Management Analyst, Rules Committee Staff.

[FR Doc. 2023-28826 Filed 12-29-23; 8:45 am]

BILLING CODE 2210-55-P